DEPARTMENT OF COMMERCE

National Oceanic and Atmospheric Administration

50 CFR Part 648

[Docket No. 040804229-4300-02; I.D. 071305B]

Magnuson-Stevens Fishery Conservation and Management Act Provisions; Fisheries of the Northeastern United States; Northeast Multispecies Fishery; Prohibition of the use of Regular B Days-at-Sea in the Georges Bank Cod Stock Area

AGENCY: National Marine Fisheries Service (NMFS), National Oceanic and Atmospheric Administration (NOAA), Commerce.

ACTION: Temporary rule; closure.

SUMMARY: NMFS announces that the Administrator, Northeast Region, NMFS (Regional Administrator), has projected that 100 percent of the quarterly incidental total allowable catch (TAC) of Georges Bank (GB) cod specified to be harvested under the Regular B Days-at-Sea (DAS) Pilot Program will be harvested by July 18, 2005. Therefore, the use of Regular B DAS under the Regular B DAS Pilot Program is prohibited throughout the GB cod stock area through the end of the current quarter (see the DATES and SUPPLEMENTARY INFORMATION sections of this rule for further details). The intended effect of this action is to prevent over-harvesting the incidental catch TAC of GB cod under the Regular B DAS Pilot Program during the current quarter, in accordance with the Magnuson-Stevens Fishery Conservation and Management Act.

DATES: Effective 0001 hr local time, July 18, 2005, through 2400 hr local time, July 31, 2005. (See requirements under SUPPLEMENTARY INFORMATION for additional details).

FOR FURTHER INFORMATION CONTACT: Douglas W. Christel, Fishery Policy Analyst, phone (978) 281-9141, fax (978) 281-9135.

SUPPLEMENTARY INFORMATION: The Regular B DAS Pilot Program, including quarterly incidental catch TAC's for species of concern, was implemented under Framework Adjustment 40-A (69 FR 67780, November 19, 2004) to the NE Multispecies FMP. Regulations governing the Regular B DAS Pilot Program are found at 50 CFR 648.85(b)(6). These regulations authorize vessels issued a valid limited access NE multispecies DAS permit and allocated Regular B DAS to use a NE multispecies Regular B DAS throughout the NE multispecies regulated mesh areas outside of approved Special Access Programs under the conditions of the Regular B DAS Pilot Program. For the GB cod stock, the quarterly TAC was specified at 32.01 mt. According to the regulations at § 648.85(b)(6)(iv)(G), once the Regional Administrator projects that 100 percent of one or more of the quarterly incidental catch TAC's have been harvested, the use of Regular B DAS under the Regular B DAS Pilot Program shall be prohibited for the pertinent stock area(s) for the duration of the quarter. The closure of a stock area will occur even if the incidental catch TAC's for other stocks in that stock area have not been completely harvested.

Based upon Vessel Monitoring System (VMS) reports and other available information, the Regional Administrator has determined that 100 percent of the 32.01-mt quarterly incidental catch TAC for GB cod will be harvested by July 18, 2005. Therefore, effective July 18, 2005, the use of Regular B DAS under the Regular B DAS Pilot Program in the GB Cod Stock Area, as defined at § 648.85(b)(6)(v)(B), is prohibited through the end of the current quarter on July 31, 2005. A NE multispecies DAS vessel that has already declared its intent to fish in the GB Cod Stock Area under the Regular B DAS Pilot Program through VMS, departed on a trip, and crossed the VMS demarcation line prior to the effective date of this action must either complete its trip under a Regular B DAS by crossing the VMS demarcation line on its return to port, or flip to fishing under a Category A DAS, before 0000 hours local time on July 18, 2005. Beginning August 1, 2005, NE multispecies DAS vessels may once again fish under the Regular B DAS Pilot Program within the GB Cod Stock Area.

Classification

This action is required by 50 CFR part 648 and is exempt from review under Executive Order 12866.

Pursuant to 5 U.S.C. 553(b)(B), the Assistant Administrator finds good cause to waive prior notice and opportunity for public comment for this action because any delay of this action would be impracticable and contrary to the public interest. The regulations at § 648.85(b)(6)(iv)(G) require the Regional Administrator to prohibit the use of Regular B DAS in a particular stock area once 100 percent of the incidental catch TAC for that species is projected to be harvested. Accordingly, the action being taken by this temporary rule is non-discretionary. This action prohibits the use of Regular B DAS in the GB cod stock area for the remainder of the current quarter (i.e., through July 31, 2005) to prevent exceeding the quarterly incidental catch TAC for GB cod. The possibility of this closure was contemplated by Framework 40-A and commented on by the public. It is not practicable to allow for additional public comment or a delayed effectiveness because of the need to take immediate action as soon as the data are available indicating that the TAC will be reached. If implementation of this action is delayed, NMFS would be prevented from carrying out its function of preventing excessive harvest of stocks of concern under the Regular B DAS Pilot Program. Opportunity for public comment would allow the harvest of stocks of concern to continue during this quarter, resulting in the likelihood of exceeding the quarterly incidental catch TAC for GB cod. Exceeding the quarterly TAC for this species increases the chance that such additional mortality could further delay the rebuilding of this overfished stock. Exceeding the mortality targets for this species could potentially lead to further effort restrictions in the future and, therefore, further negative economic impacts to the fishing industry. Thus, any delay caused by further opportunity for public comment would be impracticable and contrary to the public interest. For the above reasons, under 5 U.S.C. 553(b)(3), proposed rulemaking is waived because it would be impracticable and contrary to the public interest.

For the same reasons, the Assistant Administrator finds good cause, pursuant to 5 U.S.C. 553(d)(3), to waive the entire 30-day delayed effectiveness period for this action. The effect of this waiver is mitigated to some degree because the public is able to obtain information from the NMFS Northeast Regional Office website at http://www.nero.noaa.gov which provides catch information indicating the need for this action.

Authority: 16 U.S.C. 1801 et seq.

Dated: July 13, 2005.
Alan D. Risenhoover,
Acting Director, Office of Sustainable Fisheries, National Marine Fisheries Service.

[FR Doc. 05-14184 Filed 7-14-05; 2:52 pm]

BILLING CODE 3510-22-S